DEPARTMENT OF HEALTH AND HUMAN SERVICES

Centers for Disease Control and Prevention

Disease, Disability, and Injury Prevention and Control Special Emphasis Panel: Patient Protection and Affordable Care Act (PPACA), Emerging Infections Program (EIP), Enhancing Epidemiology and Laboratory Capacity, Funding Opportunity Announcement CI10-003; Initial Review; Correction

Correction: This notice was published in the Federal Register on July 7, 2010, Volume 75, Number 129, page 39033. The time and date should read as follows:

Time and Date: 8 a.m.-5 p.m., September 8, 2010 (Closed).

CONTACT PERSON FOR MORE INFORMATION: Gregory Anderson, M.S., M.P.H., Scientific Review Officer, CDC, 1600 Clifton Road, NE., Mailstop E60, Atlanta, GA 30333, Telephone: (404) 498-2293.

The Director, Management Analysis and Services Office, has been delegated the authority to sign Federal Register notices pertaining to announcements of meetings and other committee management activities, for both CDC and the Agency for Toxic Substances and Disease Registry.

Dated: July 20, 2010.
Michael J. Lanzilotta,
Acting Director, Management Analysis and Services Office, Centers for Disease Control and Prevention.

[FR Doc. 2010-18401 Filed 7-26-10; 8:45 am]

BILLING CODE 4163-18-P